DEPARTMENT OF JUSTICE

Antitrust Division

Notice Pursuant to the National Cooperative Research and Production Act of 1993—The Open Group, L.L.C.

Notice is hereby given that, on September 29, 2023, pursuant to section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 5HART-IT OPLEIDINGEN B.V., Velp, THE NETHERLANDS; Actenum Corporation, Vancouver, CANADA; Apogee Semiconductor, Inc., Plano, TX; ARK CLS, Bedford, UNITED KINGDOM; Beijing Jurassic Software Co., Ltd., Beijing,PEOPLE'S REPUBLIC OF CHINA; BKO Services, Houston, TX; Boomi, Chesterbrook, PA; C3RiOS Systems, Inc., Montreal, CANADA; CNPC USA Corporation, Houston, TX; COMPETENSIS, Fontaines St Martin, FRANCE; Cornet Technology Inc., Springfield, VA; Denodo Technologies Inc., Palo Alto, CA; Docaposte Institute, Ivry Sur Seine, FRANCE; Dragos, Inc., Hanover, MD; EastSea Star Software Ltd, Ho Chi Minh, VIETNAM; Engineering Simulation and Scientific Software LTDA, Florianópolis, BRAZIL; Freelance Provider, Lac 1, TUNISIA; Glasspaper Learning AS, Oslo, NORWAY; GooBiz—Goal Oriented Business, Cergy, FRANCE; Indra Soluciones Tecnologías de la Información S.L.U., Alcobendas, SPAIN; Innoflight, LLC, San Diego, CA; LearnQuest s.r.o., Prague, CZECH REPUBLIC; Lin and Associates, Inc., Phoenix, AZ; Marine Corps Systems Command, Product Manager EWS, Stafford, VA; Microchip Technology Inc., Chandler, AZ; National Aeronautics and Space Administration (NASA), Washington, DC; Net Zero Matrix Ltd., Douglas, UNITED KINGDOM; One Stop Systems, Inc., Escondido, CA; OnTime Networks, LLC, Latham, NY; Onyx Data LLC, Engelwood, CO; ORSYS Formation, Paris, FRANCE; Palladio Consulting GmbH & Co. KG, Bavaria, GERMANY; Petroleum Development Oman L.L.C., Muscat, SULTANATE OF OMAN; Red Hat Inc., McLean, VA; and SAS Acceliance, Le Raincy, FRANCE, have been added as parties to this venture.

Also, Akridata, Inc., Los Altos, CA; Buurst, Inc., Houston, TX; CommandPrompt, Inc., Bellingham, WA; CRI2M SRL, Brussels, BELGIUM; DeepIQ, LLC, Houston, TX; EnergyVue Services Limited; Aberdeen, UNITED KINGDOM; G42 Cloud Technology L.L.C., Al Reem Island, UNITED ARAB EMIRATES; Galp Exploração e Produção Petrolífera S.A., Lisbon, PORTUGAL; Geopost Consultoria em Geologia e Geofísica Ltda; Rio de Janeiro, BRAZIL; GeoSynergy Pty Ltd, Brisbane, AUSTRALIA; Green Horizon AS, Sandnes, NORWAY; JourneyOne, West Perth, AUSTRALIA; Luxembourg Institute of Science and Technology (LIST), Luxembourg-Kirchberg, LUXEMBOURG; Magseis Fairfield ASA, Lysaker, NORWAY; Midwest Microwave Solutions, Inc., Hiawatha, IA; PAS Global LLC, Houston, TX; PM Expert Group UK LIMITED, Noida, INDIA; Prediktor AS, Fredrikstad, NORWAY; RDRTec, Inc., Roebling, NJ; Ruths Analytics and Innovation, Inc. (d/b/a “Petro.ai”), Houston, TX; Security Compass, Ontario, CANADA; Softeam, Paris, FRANCE; Softserve Inc, Austin, TX; Tech Mahindra Limited, Mumbai, INDIA; The Board of Supervisors of Louisiana State University, Baton Rouge, LA; VMTC—Vincenzo Marchese Training & Consulting, London, UNITED KINGDOM; and Zodiac Data Systems, Alpharetta, GA, have withdrawn as parties to this venture.

Additionally, Koch Industries has changed its name to Koch Capabilities, LLC, Wichita, KS; Oriola Defense & Security LLC to Safran Federal Systems, Inc., Rochester, NY; Integrata AG to Cegos Integrata GmbH, Stuttgart, GERMANY; and NovaTech Process Solutions to Valmet Automation Oy, Vespoo, FINLAND.

No other changes have been made in either the membership or planned activity of the group research project. Membership in this group research project remains open, and TOG intends to file additional written notifications disclosing all changes in membership.

On April 21, 1997, TOG filed its original notification pursuant to section 6(a) of the Act. The Department of Justice published a notice in the Federal Register pursuant to section 6(b) of the Act on June 13, 1997 (62 FR 32371).

The last notification was filed with the Department on June 29, 2023. A notice was published in the Federal Register pursuant to section 6(b) of the Act on August 23, 2023 (88 FR 57478).

Suzanne Morris,
Deputy Director Civil Enforcement Operations, Antitrust Division.

[FR Doc. 2023-27558 Filed 12-14-23; 8:45 am]

BILLING CODE P